COMMISSION ON CIVIL RIGHTS

Agenda and Notice of Public Meeting of the Vermont Advisory Committee

AGENCY: Commission on Civil Rights.

ACTION: Announcement of meeting.

SUMMARY: Notice is hereby given, pursuant to the provisions of the rules and regulations of the U.S. Commission on Civil Rights (Commission), and the Federal Advisory Committee Act (FACA), that a briefing meeting of the Vermont Advisory Committee to the Commission will convene at 10:00 a.m. (EDT) on Monday, August 10, 2015 in Room 11 at the Vermont State House located at 115 State St., Montpelier, VT 05633. The purpose of the briefing meeting is to hear from government officials, advocates, and other experts as well as the public on the topic of housing in Vermont. The agenda is being finalized.

Closed-captioning of the meeting will be provided. If other persons who plan to attend the meeting require other accommodations, please contact Evelyn Bohor at ero@usccr.gov at the Eastern Regional Office at least ten (10) working days before the scheduled date of the meeting.

Time will be set aside at the end of the briefing so that members of the public may address the Committee after the formal presentations have been completed. Persons interested in the issue are also invited to submit written comments; the comments must be received in the regional office by Thursday, September 10, 2015. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at http://www.facadatabase.gov/committee/meetings.aspx?cid=278 and clicking on the “Meeting Details” and “Documents” links. Records generated from this meeting may also be inspected and reproduced at the Eastern Regional Office, as they become available, both before and after the meeting. Persons interested in the work of this advisory committee are advised to go to the Commission's Web site, www.usccr.gov, or to contact the Eastern Regional Office at the above phone number, email or street address.

Agenda

Welcome and Introductions

Diane B. Snelling, Chair

Briefing

Vermont State Advisory Committee

Government Officials, Advocates, Experts

Administrative Matters

Barbara J. de La Viez, Designated Federal Official

Open Comment

DATES: Monday, August 10, 2015 (EDT).

ADDRESSES: The meeting will be in Room 11 at the Vermont State House located at 115 State St., Montpelier, VT 05633.

FOR FURTHER INFORMATION CONTACT: Ivy L. Davis at ero@usccr.gov, or 202-376-7533

Dated: Tuesday, July 14, 2015.
David Mussatt,
Chief, Regional Programs Unit.

[FR Doc. 2015-17746 Filed 7-20-15; 8:45 am]

BILLING CODE 6335-01-P